ELECTION ASSISTANCE COMMISSION

Information Collection Activity; Proposed Collection; Comment Request

AGENCY: Election Assistance Commission (EAC).

ACTION: Notice.

SUMMARY: In compliance with Section 3506(c)(2)(A) of the Paperwork Reduction Act of 1995, EAC announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received on or before Wednesday, October 14, 2004.

ADDRESSES: Written comments and recommendations on the proposed information collection should be sent to the Election Assistance Commission, 1225 New York Avenue, NW., Washington, DC 20005, ATTN: Mr. Brian Hancock or may be submitted by facsimile transmission at (202) 566-3127.

FOR FURTHER INFORMATION CONTACT: To request more information on this proposed information collection or to obtain a copy of the proposal and associated collection instruments, please write to the above address, or call Mr. Brian Hancock or Ms. Juliet Thompson at (202) 566-3100.

Title and OMB Number: Election Day Data Survey; OMB Number Pending.

Needs and Uses: The information collection requirement is necessary to meet a requirement of the Help America Vote Act (HAVA) of 2002 (42 U.S.C. 15301). Section 241 of HAVA requires the EAC to study and report on election activities, practices, policies and procedures, including the mechanisms of voting in the states, overvotes and undervotes, methods of conducting provisional voting, methods of recruiting, training and improving the performance of poll workers, matters particularly relevant to voting administration and election in rural and urban areas, and such other matters as the Commission deems appropriate. In order to fulfill those requirements and to provide a complete report to Congress, EAC is seeking information relating to November 2, 2004 election.

Affected Public: State or local Government.

Annual Burden Hours:

Number of Respondents: 55.

Responses per Respondent: 1.

Average Burden per Response: 200 hours.

Frequency: Bi-Annually.

SUPPLEMENTARY INFORMATION:

Summary of Information Collection

HAVA created the Election Assistance commission and enacted numerous provisions aimed at improving the administration of federal elections. This survey seeks information relating to the November 2, 2004 election that will assist the EAC in studying the administration of that federal election, will provide insight into issues or problems that may require additional study and consideration, and will assist the EAC in providing a complete report to Congress on the successes and challenges related to the November 2, 2004 election. The following categories of information are requested on a county/local election jurisdiction and/or state-wide level:

Voter Registration

Number of registered voters (active and inactive) who were eligible to vote on November 2, 2004.

Election Results

(a) Number of ballots counted, (b) number of ballots cast on election day, (c) number of requested absentee ballots, (d) number of returned absentee ballots, (e) number of counted absentee ballots, (f) number of early voting ballots counted, (g) number of provisional ballots cast, (h) number of provisional ballots counted, (i) number of undervotes in each federal contest (i.e., presidential, senatorial, and congressional races/contests), (j) number of overvotes in each federal contest, and (k) total number of ballots casts in each federal contest.

Voting Equipment

(a) Type, manufacture and number of units of voting equipment used in each county, and (b) the location and number of voting machine malfunctions, including power failure, broken counters, computer failure, printer failure, screen failure, damage or destruction of the voting machine, modem failure, scanner failure, ballot encoder/activator failure, or other forms of malfunctions.

Voting Jurisdictions

(a) Number of precincts in each county/local election jurisdiction, and (b) number of polling places in each county/local election jurisdiction.

Sources of Information

(a) Number of local election jurisdictions that responded and provided information for the survey, (b) name and contact information for persons who provided information for the survey, and (c) any other sources of information used to report in the survey.

Ray Martinez III,
Commissioner, U.S. Election Assistance Commission.

[FR Doc. 04-22521 Filed 10-4-04; 8:45 am]

BILLING CODE 6820-YN-M